SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before April 16, 2018.

ADDRESSES: Send all comments to Carol Fendler, Director, Licensing and Program Standards Office of Investment and Innovation, Small Business Administration, 409 3rd Street, 6th Floor, Washington, DC 20416.

FOR FURTHER INFORMATION CONTACT: Carol Fendler, Director, Licensing and Program Standards Office of Investment and Innovation 202-205-7559, carol.fendler@sba.gov, or Curtis B. Rich, Management Analyst, 202-205-7030, curtis.rich@sba.gov.

SUPPLEMENTARY INFORMATION: Small Business Investment Companies will use this form to request a determination of eligibility for SBA leverage in form of a deferred interest “energy saving debenture” which can be used only to make an “Energy Saving Qualified Investment” Eligibility is based on whether the Small Business to be financed with leverage proceeds “primarily engaged” in Energy Savings Activities as defined in the SBIC program regulations.

Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Financing Eligibility Statement for Usage of Energy Saving Debenture.

Description of Respondents: Small Business Investment Companies.

Form Number: SBA Form 2428.

Total Estimated Annual Responses: 5.

Total Estimated Annual Hour Burden: 50.

Curtis B. Rich,
Management Analyst.

[FR Doc. 2018-03179 Filed 2-14-18; 8:45 am]

BILLING CODE 8025-01-P